DEPARTMENT OF ENERGY

Federal Energy Regulatory Commission

Notice of AmerenUE Request To Use Alternative Procedures in Preparing a License Application

July 6, 2000.

Take notice that the following request to use alternative procedures to prepare a license application has been filed with the Commission:

a. Type of Application: Request to use alternative procedures to prepare a new license application.

b. Project No.: FERC No. 459.

c. Date filed: June 14, 2000.

d. Applicant: Union Electric Company (d/b/a AmerenUE).

e. Name of Project: Osage Project.

f. Location: On the Osage River, in Benton, Camden, Miller and Morgan Counties, central Missouri. The project occupies federal lands.

g. Filed Pursuant to: Federal Power Act, 16 U.S.C. 791(a)-825(r).

h. Applicant Contact: Alan Sullivan, Licensing Project Manager, AmerenUE, 617 River Road, Elden, MO 65020, (573) 365-9329.

i. FERC Contact: Any questions on this notice should be addressed to Allan Creamer at (202) 219-0365.

j. Deadline for Comments: 30 days from the date of this notice.

All documents (original and eight copies) should be filed with: David P. Boergers, Secretary, Federal Energy Regulatory Commission, 888 First Street, NE, Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency.

k. Description of the Project: The peaking project consists of an 2,583-foot-long, 148-foot-high concrete dam; a 92-mile-long, 55,000-acre impoundment at a full pool elevation of 660 feet mean sea level; a powerhouse containing eight main and two in-house generating units, having a total installed capacity of 176,200 kilowatts; and appurtenant facilities. The project generates approximately 675,000 megawatt-hours of electricity annually.

l. AmerenUE has demonstrated that it has made an effort to contact all federal and state resources agencies, non-governmental organizations (NGO), and others affected by the project. AmerenUE has also demonstrated that a consensus exists that the use of alternative procedures is appropriate in this case. AmerenUE has submitted a communications protocol that is supported by the stakeholders.

The purpose of this notice is to invite any additional comments on AmerenUE's request to use the alternative procedures, pursuant to Section 4.34(i) of the Commission's regulations. Additional notices seeking comments on the specific project proposal, interventions and protests, and recommended terms and conditions will be issued at a later date. AmerenUE will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

AmerenUE has met with federal and state resources agencies, NGOs, elected officials, flood control and downstream interests, environmental groups, business and economic development organizations, the boating industry, and members of the public regarding the Osage Project. AmerenUE intends to file 6-month progress reports during the alternative procedures process that leads to the filling of a license application by February 28, 2004.

David P. Boergers,
Secretary.

[FR Doc. 00-17549 Filed 7-11-00; 8:45 am]

BILLING CODE 6717-01-M